DEPARTMENT OF COMMERCE

National Oceanic and Atmospheric Administration

[RTID 0648-XC284]

Mid-Atlantic Fishery Management Council (MAFMC); Public Meeting

AGENCY: National Marine Fisheries Service (NMFS), National Oceanic and Atmospheric Administration (NOAA), Commerce.

ACTION: Notice; public meeting.

SUMMARY: The Scientific and Statistical Committee (SSC) of the Mid-Atlantic Fishery Management Council (Council) will hold a meeting.

DATES: The meeting will be held on Tuesday, September 13, 2022, starting at 12:30 p.m. and continue through 12 p.m. on Wednesday, September 14, 2022. See SUPPLEMENTARY INFORMATION for agenda details.

ADDRESSES:

Meeting address: The meeting will be held at the Hyatt Place Baltimore Inner Harbor, 511 South Central Ave., Baltimore, MD 21202.

The meeting will be conducted in a hybrid format, with options for both in-person and webinar participation. Details on how to connect to the webinar by computer and by telephone will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will make acceptable biological catch (ABC) recommendations for spiny dogfish for the 2023 fishing year based on the most recent survey data and fishery information. The SSC will get an overview of the work products and decision support tools developed as part of the Northeast Regional Marine Fish Habitat Assessment (NRHA) project. The SSC will receive an update from a number of SSC working groups, including: the Ecosystem work group, the Economic work group, and the Constant/Average ABC work group. The SSC will also receive a presentation on the results and findings of the Council's recently completed management strategy evaluation on the recreational summer flounder fishery. The SSC may take up any other business as necessary.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

Authority: 16 U.S.C. 1801 et seq.

Dated: August 22, 2022.
Rey Israel Marquez,
Acting Deputy Director, Office of Sustainable Fisheries, National Marine Fisheries Service.

[FR Doc. 2022-18351 Filed 8-24-22; 8:45 am]

BILLING CODE 3510-22-P